DEPARTMENT OF DEFENSE

Office of the Secretary

Meeting of the Board of Regents of the Uniformed Services University of the Health Sciences

AGENCY: Uniformed Services University of the Health Sciences.

ACTION: Quarterly Meeting Notice; The Board of Regents of the Uniformed Services University of the Health Sciences.

SUMMARY: The actions that will take place are the approval of the minutes from the Board of Regents meetings on May 19-20, 2005; departmental reports; and degrees from the USU School of Medicine. The President, USU; Dean, USU School of Medicine; and Dean, USU Graduate School of Nursing will also present reports. These actions are necessary in order to remain an accredited medical school and to pursue our mission, which is to provide trained medical personnel to our uniformed services. This meeting is in Harrisburg, PA to allow observation of a medical field exercise.

DATES: July 18, 2005, 8 a.m. to 11 a.m.

ADDRESSES: Hilton Harrisburg and Towers, 1 North Second Street, Harrisburg, PA 17101

FOR FURTHER INFORMATION CONTACT: Barry W. Wolcott, M.D., Executive Secretary, Board of Regents, 301-295-3981.

Dated: June 24, 2005.
Jeannette Owings-Ballard,
OSD Federal Register Liaison Officer, Department of Defense.

[FR Doc. 05-13006 Filed 6-28-05; 4:30 pm]

BILLING CODE 5001-06-P